DEPARTMENT OF COMMERCE

National Oceanic and Atmospheric Administration

RIN 0648-XV065

Pacific Fishery Management Council; Public Meeting

AGENCY: National Marine Fisheries Service (NMFS), National Oceanic and Atmospheric Administration (NOAA), Commerce.

ACTION: Notice of public meetings.

SUMMARY: The Pacific Fishery Management Council's (Pacific Council) Ad Hoc Sablefish Management and Trawl Allocation Attainment Committee (SaMTAAC) will hold a meeting, which will be open to the public.

DATES: The meeting will be held Wednesday, October 9 and Thursday, October 10, 2019, starting at 8 a.m. Pacific Daylight Time and will end when business for the day has been completed.

ADDRESSES: The meeting will be held at the Sheraton Portland Airport, Mt. Adams Room, 8235 NE Airport Way, Portland, OR 97220; telephone: (503) 281-2500.

Council address: Pacific Fishery Management Council, 7700 NE Ambassador Place, Suite 101, Portland, OR 97220-1384.

FOR FURTHER INFORMATION CONTACT: Dr. Jim Seger, Pacific Council; telephone: (503) 820-2416.

SUPPLEMENTARY INFORMATION: At its meeting, the SaMTAAC will continue to develop alternatives that address obstacles to achieving the goals and objectives of the groundfish trawl catch share plan related to under-attainment of non-sablefish shore based trawl allocations. The SaMTAAC's work on alternatives will be presented at the November 2019 Pacific Council meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt, (kris.kleinschmidt@noaa.gov; (503) 820-2411), at least 10 days prior to the meeting date.

Authority: 16 U.S.C. 1801 et seq.

Dated: September 9, 2019.
Tracey L. Thompson,
Acting Deputy Director, Office of Sustainable Fisheries, National Marine Fisheries Service.

[FR Doc. 2019-19729 Filed 9-11-19; 8:45 am]

BILLING CODE 3510-22-P